INTERNATIONAL TRADE COMMISSION

[USITC SE-11-029]

Government in the Sunshine Act Meeting Notice

Agency Holding The Meeting: United States International Trade Commission.

Time And Date: November 3, 2011 at 2 p.m.

Place: Room 101, 500 E Street SW., Washington, DC 20436, Telephone: (202) 205-2000.

Status: Open to the public.

Matters To Be Considered: 1. Agendas for future meetings: none.

2. Minutes.

3. Ratification List.

4. Vote in Inv. Nos. 731-TA-624 and 625 (Third Review) (Helical Spring Lock Washers from China and Taiwan). The Commission is currently scheduled to transmit its determinations and Commissioners' opinions to the Secretary of Commerce on or before November 18, 2011.

5. Outstanding action jackets: none.

In accordance with Commission policy, subject matter listed above, not disposed of at the scheduled meeting, may be carried over to the agenda of the following meeting.

Issued: October 24, 2011.
By order of the Commission.
William R. Bishop,
Hearings and Meetings Coordinator.

[FR Doc. 2011-27901 Filed 10-25-11; 11:15 am]

BILLING CODE 7020-02-P